DEPARTMENT OF TRANSPORTATION

Federal Aviation Administration

Proposed Advisory Circular 25.785-1B, Flight Attendant Seat and Torso Restraint System Installations

AGENCY: Federal Aviation Administration, DOT.

ACTION: Notice of Availability of Proposed Advisory Circular (AC) 25.785-1B, and request for comments.

SUMMARY: This notice announces the availability of and requests comments on a proposed advisory circular (AC) which provides information and guidance regarding an acceptable means, but not the only means, of compliance with the portions of §§ 25.785 and 121.311 of 14 CFR Part 25 which deal with flight attendant seats. This notice is necessary to give all interested persons an opportunity to present their views on the proposed AC.

DATES: Comments must be received on or before June 16, 2003.

ADDRESSES: Send all comments on proposed AC to: Federal Aviation Administration, Attention: Jeff Gardlin, Airframe and Cabin Safety Branch, ANM-115, Transport Airplane Directorate, Aircraft Certification Service, 1601 Lind Avenue SW., Renton, WA 98055-4056. Comments may be inspected at the above address between 7:30 a.m. and 4 p.m. weekdays, except Federal holidays.

FOR FURTHER INFORMATION CONTACT: Jan Thor, Transport Standards Staff, at the address above, telephone (425) 227-2127.

SUPPLEMENTARY INFORMATION:

Comments Invited

Interested persons are invited to comment on the proposed AC by submitting such written data, views, or arguments, as they may desire. Commenters should identify AC 25.785-1B and submit comments, in duplicate, to the address specified above. All communications received on or before the closing date for comments will be considered by the Transport Standards Staff before issuing the final AC. As this AC is a revision of an existing document, where the only changes are adding a new paragraph 9, Direct View, and updating paragraph 5, Definition of Terms, we request you limit your comments to these areas only. The rest of the AC remains unchanged. The proposed AC can be found and downloaded from the Internet at http://www.faa.gov/certification/aircraft/air_index.htm, by taking the following steps: Under “Aircraft Certification Related Information” click on “Advisory Circulars.” Under “Search Help” click on “Related Links.” Then click on “Draft Advisory Circulars.” Then under “Search Help” click on “Open for Comment.” A paper copy of the proposed AC may be obtained by contacting the person named above under the caption FOR FURTHER INFORMATION CONTACT.

Discussion

The guidelines incorporated in the AC are intended to address the adequacy of new designs and are not intended to require that in-service airplanes be modified solely for the purpose of meeting them. Voluntary modifications to existing cabins are not required to meet the new criteria but modifiers should incorporate them to the extent practical considering the scope and intent of the voluntary modification.

Issued in Renton, Washington, on April 2, 2003.
Ali Bahrami,
Acting Manager, Transport Airplane Directorate, Aircraft Certification Service, ANM-100.

[FR Doc. 03-9079 Filed 4-14-03; 8:45 am]

BILLING CODE 9079-13-M